DEPARTMENT OF THE TREASURY

Internal Revenue Service

Proposed Information Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1094-B, Transmittal of Health Coverage Information Returns and Form 1095-B, Health Coverage.

DATES: Written comments should be received on or before November 3, 2014 to be assured of consideration.

ADDRESSES: Direct all written comments to Stacey Becker, Internal Revenue Service, Room 6526, 1111 Constitution Avenue NW., Washington, DC 20224.

FOR FURTHER INFORMATION CONTACT: Requests for additional information, or copies of the information collection and instructions should be addressed to Christie A. Preston, at Internal Revenue Service, Room 6129, 1111 Constitution Avenue NW., Washington, DC 20224, or through the Internet, at Christie.A.Preston@irs.gov.

SUPPLEMENTARY INFORMATION: Title: Form 1094-B, Transmittal of Health Coverage Information Returns and Form 1095-B, Health Coverage.

Form OMB Number: 1545-2252.

Form Numbers: 1094-B and 1095-B.

Abstract: The IRS developed Form 1094-B and Form 1095-B under the authority of IRC section 6055, added by P.L. 111-148, Patient Protection and Affordable Care Act (ACA), section 1502(a). Section 6055(a) requires every health insurance issuer, sponsor of a self-insured health plan, government agency that administers government-sponsored health insurance programs and other entity that provides minimum essential coverage to file annual returns reporting information for each individual for whom minimum essential coverage is provided. Form 1094-B, serves as a transmittal for Form 1095-B, Health Coverage.

Current Actions: Requesting OMB approval to add Form 1094-B and 1095-B under this currently approved OMB number.

Type of Review: Revision to a currently approved collection.

Affected Public: Business or other for-profit organizations, not-for-profit institutions, federal government state, local, or tribal government.

Note about Estimates: Filing Forms 1094-B and 1095-B is voluntary for tax year 2014 and the number of voluntary filers is highly uncertain. Accordingly, comments are requested on the estimated number of responses and the estimated total annual burden hours. Filing is mandatory for tax year 2015. Accordingly these burden estimates will be updated as appropriate.

1094-B:

Estimated Number of Responses: TBD.

Estimated Time Per Response: 10 minutes.

Estimated Total Annual Burden Hours: TBD.

1095-B:

Estimated Number of Responses: TBD.

Estimated Time Per Response: 1 minute.

Estimated Total Annual Burden Hours: TBD.

The following paragraph applies to all of the collections of information covered by this notice:

An agency may not conduct or sponsor, and a person is not required to respond to a collection of information, unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Estimated number of responses and estimated total annual burden hours; (b) whether the collection of information is necessary for the proper performance of the agency's functions, including whether the information has practical utility; (c) the accuracy of the agency's estimate of the burden of the collection of information; (d) ways to enhance the quality, utility, and clarity of the information to be collected; (e) ways to minimize the burden of the collection of information on respondents, including the use of automated collection techniques or other forms of information technology; and (f) estimates of capital or start-up costs and costs of operation, maintenance, and purchase of services to provide information.

Approved: August 27, 2014.
Stacey Becker,
Director, Tax Forms and Publications Division.

[FR Doc. 2014-20808 Filed 8-28-14; 4:15 pm]

BILLING CODE 4830-01-P